DEPARTMENT OF TRANSPORTATION

Federal Aviation Administration

14 CFR Part 39

[Docket No. FAA-2013-0998; Directorate Identifier 2013-CE-047-AD; Amendment 39-17674; AD 2013-23-19]

RIN 2120-AA64

Airworthiness Directives; XtremeAir GmbH Airplanes

AGENCY: Federal Aviation Administration (FAA), DOT.

ACTION: Final rule; request for comments.

SUMMARY: We are adopting a new airworthiness directive (AD) for XtremeAir GmbH Model XA42 airplanes. This AD results from mandatory continuing airworthiness information (MCAI) issued by the aviation authority of another country to identify and correct an unsafe condition on an aviation product. The MCAI describes the unsafe condition as cracks in a weld seam between the lower left landing gear attachment bearing and the lower engine mount to the firewall attachment plate, which could reduce the structural integrity of the airplane and could result in engine separation. We are issuing this AD to require actions to address the unsafe condition on these products.

DATES: This AD is effective November 25, 2013.

The Director of the Federal Register approved the incorporation by reference of a certain publication listed in the AD as of November 25, 2013.

We must receive comments on this AD by January 9, 2014.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this AD, contact XtremeAir GmbH, Harzstrasse 2, D-39444 Hecklingen, Germany; phone: +49 39267 60999 0; fax: +49 39267 60999 20; email: airworthiness@xtremeair.de; Internet: http://www.xtremeair.de. You may view this referenced service information at the FAA, Small Airplane Directorate, 901 Locust, Kansas City, Missouri 64106. For information on the availability of this material at the FAA, call (816) 329-4148.

Examining the AD Docket

You may examine the AD docket on the Internet at http://www.regulations.gov by searching for and locating it in Docket No. FAA-2013-0998; or in person at the Docket Management Facility between 9 a.m. and 5 p.m., Monday through Friday, except Federal holidays. The AD docket contains this AD, the regulatory evaluation, any comments received, and other information. The street address for the Docket Office (telephone (800) 647-5527) is in the ADDRESSES section. Comments will be available in the AD docket shortly after receipt.

FOR FURTHER INFORMATION CONTACT: Karl Schletzbaum, Aerospace Engineer, FAA, Small Airplane Directorate, 901 Locust, Room 301, Kansas City, Missouri 64106; telephone: (816) 329-4123; fax: (816) 329-4090; email: karl.schletzbaum@faa.gov.

SUPPLEMENTARY INFORMATION:

Discussion

The European Aviation Safety Agency (EASA), which is the Technical Agent for the Member States of the European Community, has issued AD No.: 2013-0264-E, dated October 29, 2013 (referred to after this as “the MCAI”), to correct an unsafe condition for the specified products. The MCAI states:

A crack was reported by an operator in a weld seam between the lower left landing gear attachment bearing and the lower engine mount to firewall attachment plate. Further investigation showed that all engine mounts from a specific supplier may be affected.

This condition, if not detected and corrected, could lead to engine separation of the aeroplane and could severely affect the structural integrity of the aeroplane.

To address this unsafe condition, XtremeAir GmbH issued Service Bulletin SB-2013-008-A.03 to provide inspection and replacement instructions for the engine mount.

For the reason described above, this AD requires repetitive inspection of engine mounts and, in case of findings, replacement of the engine mount.

You may examine the MCAI on the Internet at http://www.regulations.gov by searching for and locating it in Docket No. FAA-2013-0998.

Relevant Service Information

XtremeAir GmbH has issued Mandatory Service Bulletin SB-2013-008, Version A.03, dated October 25, 2013. The actions described in this service information are intended to correct the unsafe condition identified in the MCAI.

FAA's Determination and Requirements of the AD

This product has been approved by the aviation authority of another country, and is approved for operation in the United States. Pursuant to our bilateral agreement with this State of Design Authority, they have notified us of the unsafe condition described in the MCAI and service information referenced above. We are issuing this AD because we evaluated all information provided by the State of Design Authority and determined the unsafe condition exists and is likely to exist or develop on other products of the same type design.

FAA's Determination of the Effective Date

An unsafe condition exists that requires the immediate adoption of this AD. The FAA has found that the risk to the flying public justifies waiving notice and comment prior to adoption of this rule because cracks in a weld seam between the lower left landing gear attachment bearing and the lower engine mount to the firewall attachment plate affects the structural integrity of the airplane and could lead to engine separation. Therefore, we determined that notice and opportunity for public comment before issuing this AD are impracticable and that good cause exists for making this amendment effective in fewer than 30 days.

Comments Invited

This AD is a final rule that involves requirements affecting flight safety, and we did not precede it by notice and opportunity for public comment. We invite you to send any written relevant data, views, or arguments about this AD. Send your comments to an address listed under the ADDRESSES section. Include “Docket No. FAA-2013-0998; Directorate Identifier 2013-CE-047-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD will affect 1 product of U.S. registry. We also estimate that it will take about 4 work-hours per product to comply with the basic requirements of this AD. The average labor rate is $85 per work-hour.

Based on these figures, we estimate the cost of the AD on U.S. operators to be $340.

In addition, we estimate that any necessary follow-on actions will take about 16 work-hours and require parts costing $4,057, for a cost of $5,417 per product.

According to the manufacturer, some of the costs of this AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2013-23-19 XtremeAir GmbH: Amendment 39-17674; Docket No. FAA-2013-0998; Directorate Identifier 2013-CE-047-AD.

(a) Effective Date

This airworthiness directive (AD) becomes effective November 25, 2013.

(b) Affected ADs

None.

(c) Applicability

This AD applies to XtremeAir GmbH Model XA42 airplanes, all serial numbers, that:

(1) Are certificated in any category; and

(2) have engine mount part number (P/N) XA42-7120-151 (manufactured by Szel-Tech), all serial numbers up to and including 036, installed.

(d) Subject

Air Transport Association of America (ATA) Code 71: Power Plant.

(e) Reason

This AD was prompted by mandatory continuing airworthiness information (MCAI) issued by the aviation authority of another country to identify and correct an unsafe condition on an aviation product. The MCAI describes the unsafe condition as cracks in a weld seam between the lower left landing gear attachment bearing and the lower engine mount to the firewall attachment plate. We are issuing this AD to prevent failure of the engine mounts, which could cause reduced structural integrity of the airplane and could result in engine separation.

(f) Actions and Compliance

Unless already done, do the following actions specified in paragraphs (f)(1) through (f)(3) of this AD.

(1) Before further flight after November 25, 2013 (the effective date of this AD) inspect the welds on the engine mount part number (P/N) XA42-7120-151 (manufactured by Szel-Tech) for cracks following the Accomplishment Instructions in XtremeAir GmbH Mandatory Service Bulletin SB-2013-008, Ausgabe (English translation: Version) A.03, dated October 25, 2013. The replacement required in paragraph (f)(2) or (f)(3) of this AD may be done instead of the inspection provided it is done before further flight.

(2) If, during the inspection required in paragraph (f)(1) of this AD, a crack is found, before further flight, replace the engine mount following the Accomplishment Instructions in XtremeAir GmbH Mandatory Service Bulletin SB-2013-008, Ausgabe (English translation: Version) A.03, dated October 25, 2013.

(3) Unless the engine mount P/N XA42-7120-151 is replaced with a serviceable part as specified in paragraph (f)(2) of this AD, within the next 10 hours TIS after November 25, 2013 (the effective date of this AD), replace the engine mount following the Accomplishment Instructions in XtremeAir GmbH Mandatory Service Bulletin SB-2013-008, Ausgabe (English translation: Version) A.03, dated October 25, 2013. Acrobatic flight is prohibited during these 10 hours.

(g) Other FAA AD Provisions

The following provisions also apply to this AD:

(1) Alternative Methods of Compliance (AMOCs): The Manager, Standards Office, FAA, has the authority to approve AMOCs for this AD, if requested using the procedures found in 14 CFR 39.19. Send information to ATTN: Karl Schletzbaum, Aerospace Engineer, FAA, Small Airplane Directorate, 901 Locust, Room 301, Kansas City, Missouri 64106; telephone: (816) 329-4123; fax: (816) 329-4090; email: karl.schletzbaum@faa.gov. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(h) Special Flight Permit

Special flight permits are prohibited for this AD.

(i) Related Information

Refer to MCAI European Aviation Safety Agency (EASA) AD No.: 2013-0264-E, dated October 29, 2013, for related information. You may examine the MCAI on the Internet at http://www.regulations.gov by searching for and locating it in Docket No. FAA-2013-0998.

(j) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) XtremeAir GmbH Mandatory Service Bulletin SB-2013-008, Ausgabe (English translation: Version) A.03, dated October 25, 2013.

(ii) Reserved.

(3) For XtremeAir GmbH service information identified in this AD, contact XtremeAir GmbH, Harzstrasse 2, D-39444 Hecklingen, Germany; phone: +49 39267 60999 0; fax: +49 39267 60999 20; email: airworthiness@xtremeair.de; Internet: http://www.xtremeair.de.

(4) You may view this referenced service information at the FAA, Small Airplane Directorate, 901 Locust, Kansas City, Missouri 64106. For information on the availability of this material at the FAA, call (816) 329-4148.

(5) You may view this service information that is incorporated by reference at the National Archives and Records Administration (NARA). For information on the availability of this material at NARA, call 202-741-6030, or go to: http://www.archives.gov/federal-register/cfr/ibr-locations.html.

Issued in Kansas City, Missouri, on November 15, 2013.
Earl Lawrence,
Manager, Small Airplane Directorate, Aircraft Certification Service.

[FR Doc. 2013-27920 Filed 11-22-13; 8:45 am]

BILLING CODE 4910-13-P